FEDERAL COMMUNICATION COMMISSION

FCC To Hold Open Commission Meeting Thursday, January 11, 2001

January 4, 2001.

The Federal Communications Commission will hold on Open Meeting on the subjects listed below on Thursday, January 11, 2001, which is scheduled to commence at 9:30 a.m. in Room TW-C305, at 445 12th Street, SW., Washington, DC.

* The summaries listed in this notice are intended for the use of the public attending open Commission meetings. Information not summarized may also be considered at such meetings. Consequently, these summaries should not be interpreted to limit the Commission's authority to consider any relevant information.

Item No. | Bureau | Subject
1 | Mass Media | Title: Implementation of Video Description of Video Programming (MM Docket No. 99-339).
|  | Summary: The Commission will consider a Memorandum Opinion and Order on Reconsideration concerning rules requiring broadcasters and video programming distributors to provide video description and make emergency information more accessible to the visually impaired.
2 | Mass Media | Title: Review of the Commission's Rules and Policies Affecting the Conversion to Digital Television (MM Docket No. 00-39).
|  | Summary: The Commission will consider issues regarding the conversion of broadcast television system from analog to digital, and DTV reception capability
3 | Cable Services | Title: WHDT-DT, Channel 59, Stuart, Florida. Petition for Declaratory Ruling that Digital Broadcast Stations have Mandatory Carriage Rights (File No. CSR-5562-Z).
|  | Summary: The Commission will consider the cable carriage rights of DTV-only television stations.
4 | Cable Services | Title: Carriage of Digital Television Broadcast Signals; and Amendments to Part 76 of the Commission's Rules (CS Docket No. 98-120); Implementation of the Satellite Home Viewer Improvement Act of 1999; and Local Broadcast Signal Carriage Issues (CS Docket No. 00-96); and Application of Network Non-Duplication, Syndicated Exclusivity and Sports Blackout Rules to Satellite Retransmission of Broadcast Signals (CS Docket No. 00-2).
|  | Summary: The Commission will consider the carriage of digital broadcast television signals by cable operators and satellite carriers.
5 | Wireless Tele-Communications | Title: The Development of Operational, Technical and Spectrum Requirements for Meeting Federal, State and Local Public Safety Communication Requirements Through the Year 2010 (WT Docket No. 96-86).
|  | Summary: The Commission will consider a Fourth Report and Order and a Fifth Notice of Proposed Rule Making concerning various technical and operational rules and policies regarding the use by public safety entities of frequencies in the 764-776 MHz and 794-806 MHz bands.
6 | Common Carrier | Title: Developing a Unified Intercarrier Compensation Regime
|  | Summary: The Commission will consider a Notice of Inquiry concerning intercarrier compensation to determine whether the current interconnection regime can be effectively reformed, or whether new regimes can address growing problems in competitive telecommunications markets.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its inc@ix.netcom.com. Their Internet address is http://www/itsdocs.com/.

This meeting can be viewed over George Mason University's Capitol Connection. The Capitol Connection also will carry the meeting live via the Internet. For information on these servicescall (703) 993-3100. The audio portion of the meeting will be broadcast live on the Internet via the FCC's Internet audio broadcast page at http://www.fcc.gov/realaudio. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Shirley S. Suggs,
Chief, Publications Group.

[FR Doc. 01-842 Filed 1-8-01; 11:44 am]

BILLING CODE 6701-01-M